DEPARTMENT OF TRANSPORTATION

Research and Special Programs Administration Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before May 30, 2003.

ADDRESS COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC 20590 or at http://dms.dot.gov.

This notice of receipt of applications for new exemptions is published in accordance with part 107 of the Federal hazardous materials transportation law (49 U.S.C. 5117(b); 49 CFR 1.53(b)).

Issued in Washington, DC, on April 25, 2003.
R. Ryan Posten,
Exemptions Program Officer, Office of Hazardous Materials Exemptions and Approvals.

New Exemptions
Application No. | Docket No. | Applicant | Regulation(s) affected | Nature of exemption thereof
13219-N | RSPA-03-14969 | Solvay Interox, Inc. Houston, TX | 49 CFR 172.302(c), 173.31(d)(1)(vi) | To authorize the transportation in commerce of DOT specification tank cars containing Division 5.1 and 5.2 hazardous materials without removing the frangible disc. (mode 2)
13220-N | RSPA-03-14968 | Advanced Technology Materials, Inc. (ATMI) Danbury, CT | 49 CFR 173.301, 173.302, 173.304, 173.315 | To authorize the transportation in commerce of non-DOT specification cylinders containing certain compressed gases absorbed onto a microporous substance and transported at sub-atmospheric pressure. (mode 1)
13221-N | RSPA-03-14967 | ToxCo, Inc. Oak Ridge, TN | 49 CFR 173.211, 173.244 | To authorize the one-time, one-way transportation in commerce of solidified sodium metal in certain non-DOT specification non-bulk and bulk packages. (mode 1)
13222-N | RSPA-03-14971 | Unilever Bestfoods Englewood Cliffs, NJ | 49 CFR 173.306(a), 173.306(a)(3)(v) | To authorize the manufacture, mark, sale and use of a non-DOT specification, non-refillable plastic aerosol container filled with compressed gas and a non-hazardous material. (modes 1, 2, 3, 4)
13225-N | RSPA-03-14996 | Quantum Technologies Irvine, CA | 49 CFR 173.301(f), 173.302(a) | To authorize the transportation in commerce of hydrogen and compressed natural gas in non-DOT specification carbon filament wound reinforced polymer lined composite cylinders. (modes 1, 2, 3)

[FR Doc. 03-10698 Filed 4-29-03; 8:45 am]

BILLING CODE 4910-60-M